OFFICE OF THE UNITED STATES TRADE REPRESENTATIVE

Paperwork Reduction Act Notice of Collection of Applications for Dispute Settlement Rosters

AGENCY: Office of the United States Trade Representative.

ACTION: Request for comments on the collection of applications.

SUMMARY: Free trade agreements entered into by the United States require the establishment of lists or rosters of individuals that would be available to serve as panelists in dispute settlement proceedings. From time to time, the Office of the United States Trade Representative (USTR) will collect applications from people who wish to serve on those panels. USTR is soliciting comments from the public on this proposed collection of information prior to submitting a request for approval to the Office of Management and Budget pursuant to the Paperwork Reduction Act.

DATES: Comments regarding this collection of information should be received no later than February 15, 2007.

ADDRESSES: Comments should be submitted (i) electronically, to FR0605@ustr.eop.gov, Attn: “FTA Applications Comments” in the subject line, or (ii) by fax to Sandy McKinzy at 202-395-3640.

FOR FURTHER INFORMATION CONTACT: David Apol, Office of the United States Trade Representative, (202) 395-9633.

SUPPLEMENTARY INFORMATION:

Dispute Settlement Mechanisms of U.S. Free Trade Agreements

U.S. free trade agreements set out detailed procedures for the resolution of disputes over compliance with the obligations set out in each agreement. Generally, dispute settlement involves three stages: (1) Lower level consultations between the disputing Parties to try to arrive at a mutually satisfactory resolution of the matter; (2) cabinet-level consultations; and, (3) resort to a neutral panel to make a determination as to whether a Party is in compliance with its obligations under the agreement. This panel is composed of individuals chosen by the Parties. The method by which the panel is selected varies between agreements. Some agreements require the establishment of a roster, from which panelists shall normally be selected. See e.g. Chile FTA, Article 22.7. Other agreements allow the Parties to select anyone as a panelist, after consultations, but provide for a contingent list from which panelists can be selected by lot, if the Parties do not otherwise select a panelist. See e.g. Singapore FTA, Article 20.4; Australia FTA, Article 21.7; Morocco FTA, Article 20.7.

Eligible individuals who wish to be considered for the various rosters and lists will be invited to submit applications. Persons submitting applications may either send one copy by fax or transmit a copy electronically. Applications must be typewritten, and should be headed “Application for Consideration as an FTA Panelist.” Applications will be asked to include the following information:

1. Name of the applicant.

2. Business address, telephone number, fax number, and e-mail address.

3. Citizenship(s).

4. Agreement or agreements for which the applicant wishes to be considered.

5. Current employment, including title, description of responsibility, and name and address of employer.

6. Relevant education and professional training.

7. Relevant language fluency, written and spoken.

8. Post-education employment history, including the dates and addresses of each prior position and a summary of responsibilities.

9. Relevant professional affiliations and certifications, including, if any, current bar memberships in good standing.

10. A list and copies of publications, testimony, and speeches, if any, concerning the relevant area of expertise. Judges or former judges should list relevant judicial decisions. Only one copy of publications, testimony, speeches, and decisions need be submitted.

11. Summary of any current and past employment by, or consulting or other work for, the Government of the United States or for the government of the other Party to the Agreement for which you be to be considered (e.g. NAFTA, Singapore, Chile, Australia, or Morocco).

12. The names and nationalities of all foreign principals for whom the applicant is currently or has previously been registered pursuant to the Foreign Agents Registration Act, 22 U.S.C. 611 et seq., and the dates of all registration periods.

13. A short statement of qualifications and availability for service on FTA dispute settlement panels, including information relevant to the applicant's familiarity with international trade law and willingness and ability to make time commitments necessary for service on panels.

14. On a separate page, the names, addresses, telephone and fax numbers of three individuals willing to provide information concerning the applicant's qualifications for service, including the applicant's character, reputation, reliability, judgment, and familiarity with international trade law.

15. Information regarding any specific skill or experience which may be relevant to a specific panel for which the applicant is applying.

Paperwork Burden

It is estimated that approximately 150 individuals a year will submit applications for various panels and that it will take each applicant approximately three hours to compile their applications for a total paperwork burden of 450 hours a year. The recordkeeping cost of maintaining the information received will be minimal.

Request for Comments

USTR request comments on this proposed collection of information including comments on the following questions: (1) Is the proposed collection of information necessary for the proper performance of the functions of USTR? (2) Is the estimated burden of the proposed collection of information accurate? (3) Can the utility and clarity of the information being collected be enhanced? and (4) Can the burden on the providers of the information be minimized.

David J. Apol,
Associate General Counsel, Office of the United States Trade Representative.

[FR Doc. E5-7237 Filed 12-9-05; 8:45 am]

BILLING CODE 3190-W6-P